NUCLEAR REGULATORY COMMISSION

10 CFR Parts 60, 63, 73, and 74

RIN 3150-AI06

Geologic Repository Operations Area Security and Material Control and Accounting Requirements; Extension of Comment Period

AGENCY: Nuclear Regulatory Commission.

ACTION: Proposed rule: Extension of comment period.

SUMMARY: On December 20, 2007 (72 FR 72522), the Nuclear Regulatory Commission (NRC) published for public comment a proposed rule on Geologic Repository Operations Area Security and Material Control and Accounting Requirements. The public comment period for this proposed rule was to have expired on March 4, 2008. The Nuclear Energy Institute (NEI) has requested an extension to May 5, 2008. Due to the complex nature of the proposed rule, the NRC has decided to extend the comment period until May 5, 2008. In a letter dated January 22, 2008, NEI requested the additional time to fully capture the relevant industry experience with the type of post September 11, 2001 security enhancements discussed in the proposal.

DATES: The comment period has been extended and now expires on May 5, 2008. Comments received after this date will be considered if it is practical to do so, but the NRC is able to assure consideration only for comments received on or before this date.

ADDRESSES: You may submit comments by any one of the following methods. Please include the following number RIN 3150-AI06 in the subject line of your comments. Comments on rulemakings submitted in writing or in electronic form will be made available to the public in their entirety in NRCs Agencywide Documents Access and Management System (ADAMS). Personal information, such as your name, address, telephone number, e-mail address, etc., will not be removed from your submission.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677. Comments can also be submitted via the Federal eRulemaking Portal http://www.regulations.gov.

Hand deliver comments to: 11555 Rockville Pike, Rockville, Maryland 20852, between 7:30 a.m. and 4:15 p.m. Federal workdays. (Telephone 301-415-1677).

Fax comments to: Secretary, U.S. Nuclear Regulatory Commission at 301-415-1101.

Publicly available documents related to this rulemaking, including comments, may be viewed electronically on the public computers located at the NRC's Public Document Room (PDR), O1 F21, One White Flint North, 11555 Rockville Pike, Rockville, Maryland. The PDR reproduction contractor will copy documents for a fee.

Publicly available documents created or received at the NRC after November 1, 1999, are available electronically at the NRC's Electronic Reading Room at http://www.nrc.gov/reading-rm/adams.html. From this site, the public can gain entry into ADAMS, which provides text and image files of NRC's public documents. If you do not have access to ADAMS or if there are problems in accessing the documents located in ADAMS, contact the PDR Reference staff at 1-800-397-4209, 301-415-4737 or by e-mail to pdr@nrc.gov.

FOR FURTHER INFORMATION CONTACT: Merri Horn, telephone (301) 415-8126, e-mail, mlh1@nrc.gov of the Office of Federal and State Materials and Environmental Management Programs, U.S. Nuclear Regulatory Commission, Washington, DC 20555-0001.

Dated at Rockville, Maryland, this 20th day of February 2008.
For the Nuclear Regulatory Commission.
Annette Vietti-Cook,
Secretary of the Commission.

[FR Doc. E8-3597 Filed 2-25-08; 8:45 am]

BILLING CODE 7590-01-P